DEPARTMENT OF TRANSPORTATION

Federal Aviation Administration

14 CFR Part 39

[Docket No. FAA-2005-22540; Directorate Identifier 2004-NM-137-AD; Amendment 39-14301; AD 2005-20-08]

RIN 2120-AA64

Airworthiness Directives; Airbus Model A330-200 and -300 Series Airplanes; and Model A340-200 and -300 Series Airplanes

AGENCY: Federal Aviation Administration (FAA), DOT.

ACTION: Final rule; request for comments.

SUMMARY: The FAA is adopting a new airworthiness directive (AD) for certain Airbus transport category airplanes, identified above. This AD requires an inspection to determine if a certain lower pin (p-pin) of the retraction actuator of the main landing gear (MLG) is installed. If the affected p-pin is installed, this AD requires a one-time inspection of the p-pin for correct grease hole position and cracking; repetitive daily inspections for pin migration; and eventual replacement of all p-pins with new p-pins. For any p-pin that is cracked or shows pin migration, this AD requires immediate replacement with a new p-pin. Replacing the p-pin with one that is correctly manufactured (i.e., that has the correct grease hole position) is terminating action for the repetitive inspections. This AD results from a report that a cracked p-pin was found when the MLG was removed for overhaul. We are issuing this AD to prevent failure of the p-pin, which could result in degradation of the MLG structural integrity and possible hazardous landing.

DATES: Effective October 14, 2005.

The Director of the Federal Register approved the incorporation by reference of certain publications listed in the AD as of October 14, 2005.

We must receive comments on this AD by November 28, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this AD.

You may examine the contents of the AD docket on the Internet at http://dms.dot.gov, or in person at the Docket Management Facility, U.S. Department of Transportation, 400 Seventh Street SW., room PL-401, Washington, DC. This docket number is FAA-2005-22540; the directorate identifier for this docket 2004-NM-137-AD.

FOR FURTHER INFORMATION CONTACT: Tim Backman, Aerospace Engineer, ANM-116, International Branch, FAA, Transport Airplane Directorate, 1601 Lind Avenue, SW., Renton, Washington 98055-4056; telephone (425) 227-2797; fax (425) 227-1149.

SUPPLEMENTARY INFORMATION:

Comments Invited

Although this is a final rule that was not preceded by notice and an opportunity for public comment, we invite you to submit any relevant written data, views, or arguments regarding this AD. Include “Docket No. FAA-2005-22540; Directorate Identifier 2004-NM-137-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on Airbus Model A330-200 and -300 series airplanes; and Model A340-200 and -300 series airplanes; equipped with main landing gear (MLG) retraction actuator lower pin(s) (p-pins) having part number (P/N) 201275602. The DGAC advises that when the MLG was removed for overhaul, a p-pin, which connects the lower end of the retraction actuator to the main fitting, was found to be cracked. Investigators concluded that the crack initiated from the center grease hole of the p-pin, and that the center grease hole was machined in an incorrect position, 90 degrees from its normal position. The two end holes of the p-pin were also found to be machined 90 degrees from the original design. Failure of the p-pin could lead to an undamped extension of the MLG, causing high loads throughout the entire MLG and damage to the gear structure, the side stay assembly, and the bogie beam. This condition, if not corrected, could result in degradation of the MLG structural integrity and a possible hazardous landing.

Relevant Service Information

Airbus has issued All Operators Telex (AOT) A330-32A3181, dated May 27, 2004 (for Model A330-200, and -300 series airplanes); and AOT A340-32A4224, dated May 27, 2004 (for Model A340-200 and -300 series airplanes). The AOTs describe procedures for determining if the affected p-pins are installed. For all affected p-pins, including spares, the AOTs describe procedures for a one-time inspection to determine the position of the grease holes and for cracking of the p-pin. If the position of any grease hole is not correct, the AOTs specify that it should be replaced within 800 flight hours. Until this replacement is accomplished, the AOTs give procedures for daily external visual checks for pin migration. If pin migration is found, or if any crack is found during the one-time inspection, the AOTs specify that the pin should be replaced before further flight. The AOTs also recommend that operators complete a reporting form and send it to the part vendor. Accomplishing the actions specified in the service information is intended to adequately address the unsafe condition. The DGAC mandated the service information and issued French airworthiness directive F-2004-084, dated June 23, 2004, to ensure the continued airworthiness of these airplanes in France.

The AOTs refer to Messier-Dowty Service Bulletin A33/34-32-229, Revision 1, including Appendixes A and B, dated June 4, 2004, as an additional source of service information for inspecting the p-pins and for replacing them with a new pin having the same P/N or a new pin having a new P/N.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent failure of the p-pin, which could result in degradation of the MLG structural integrity and possible hazardous landing. This AD requires accomplishing the actions specified in the service information described previously.

Difference Between This AD and the French Airworthiness Directive

Although the French airworthiness directive specifies that operators report inspection results to the parts manufacturer, this AD does not include that requirement.

Clarification of Inspection Language

The French airworthiness directive and the AOTs specify that operators should do a “visual inspection” or “one-time inspection” to detect incorrectly manufactured p-pins. In this AD we refer to this inspection as a “detailed inspection.” Note 2 of this AD defines this inspection.

The French airworthiness directive and the AOTs specify that operators should do an “external visual inspection” or “external visual check” of the p-pin for pin migration. In this AD we refer to this inspection as a “general visual inspection.” Note 3 of this AD defines this inspection.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Action | Work hours | Average labor rate per hour | Parts cost | Cost per airplane
Inspection to determine P/N of p-pins | 1 | $65 | None | $65
Detailed inspection for incorrectly manufactured p-pins | 1 | 65 | None | 65

FAA's Determination of the Effective Date

No airplane affected by this AD is currently on the U.S. Register. Therefore, providing notice and opportunity for public comment is unnecessary before this AD is issued, and this AD may be made effective in less than 30 days after it is published in the Federal Register.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-08 Airbus: Amendment 39-14301. Docket No. FAA-2005-22540; Directorate Identifier 2004-NM-137-AD.

Effective Date

(a) This AD becomes effective October 14, 2005.

Affected ADs

(b) None.

Applicability

(c) This AD applies to Airbus Model A330-201, -202, -203, -223, -243, -301, -321, -322, -323, -341, -342, and -343 airplanes; and Model A340-211, -212, -213, -311, -312, and -313 airplanes; certificated in any category.

Unsafe Condition

(d) This AD results from a report that a p-pin, P/N 201275602, which connects the lower end of the main landing gear (MLG) retraction actuator to the main fitting, was found to be cracked when the MLG was removed for overhaul. The FAA is issuing this AD to prevent failure of the p-pin, which could result in degradation of the MLG structural integrity and possible hazardous landing.

Compliance

(e) You are responsible for having the actions required by this AD performed within the compliance times specified, unless the actions have already been done.

Service Information Reference

(f) For the purposes of this AD, the term “AOT” (All Operators Telex) means the AOT identified in paragraph (f)(1) or (f)(2) of this AD, as applicable.

(1) For Model A330-201, -202, -203, -223, -243, -301, -321, -322, -323, -341, -342, and -343 airplanes: AOT A330-32A3181, dated May 27, 2004.

(2) For Model A340-211, -212, -213, -311, -312, and -313 airplanes: AOT A340-32A4224, dated May 27, 2004.

Note 1: The AOTs refer to Messier-Dowty Service bulletin A33/34-32-229, Revision 1, including Appendixes A and B, dated June 4, 2004, as an additional source of service information for inspecting the p-pins and for replacing them with a new pin having the same P/N or a new pin having a new P/N.

Inspection To Determine Part Number

(g) Within 100 flight cycles or 3 months after the effective date of this AD, whichever occurs earlier: Inspect the p-pins of the retraction actuator of the MLG to determine whether part number (P/N) 201275602 is installed. Do the inspection in accordance with the applicable AOT. A review of airplane maintenance records is acceptable in lieu of this inspection if the P/N of the p-pin can be conclusively determined from that review. If a p-pin with a part number that is different than P/N 201275602 is installed, or if any P/N 201275602 p-pin has a batch number or serial number identified in Appendix A of Messier-Dowty Service Bulletin A33/34-32-229, Revision 1, dated June 4, 2004, no further action is required by this AD, except as provided by paragraph (l) of this AD.

Inspection for Cracking and Grease Hole Position

(h) If the inspection required by paragraph (g) of this AD shows that an affected P/N 201275602 is installed, before further flight after determining the P/N in accordance with paragraph (g) of this AD: Do a detailed inspection for cracking of the p-pin and position of the grease holes, in accordance with the applicable AOT. If any incorrect grease hole position is found or if any crack is found, do the applicable actions in paragraphs (i) and (j) of this AD at the times specified in those paragraphs. If all grease hole positions are correct and no cracking is found, no further action is required by this paragraph.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Related Investigative and Corrective Actions

(i) If the inspection required by paragraph (h) of this AD shows that a p-pin has any incorrect grease hole position, but no cracking: Do the actions in paragraph (i)(1) and (i)(2) of this AD. Do all actions in accordance with the applicable AOT.

(1) Within 24 hours after the inspection required by paragraph (h) of this AD: Do a general visual inspection of the p-pin for pin migration, in accordance with the applicable AOT. Repeat the inspection at intervals not to exceed 24 hours until the replacement required by paragraph (i)(2) or (j) of this AD is accomplished.

(2) Except as required by paragraph (j) of this AD, within 800 flight hours after doing the inspection required by paragraph (h) of this AD: Replace the p-pin with a new p-pin of the same P/N 201275602 with correctly positioned grease holes, or with a new p-pin having new P/N 201478612, in accordance with the applicable AOT.

Note 3: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(j) If any inspection required by paragraphs (h) and (i) of this AD shows a crack or pin migration, before further flight: Replace the p-pin with a new p-pin of the same P/N 201275602 with correctly positioned grease holes, or with a new p-pin having new P/N 201478612. Do all actions in accordance with the applicable AOT.

No Reporting Required

(k) Although the AOTs reference a reporting requirement in paragraph 4.3, “Material—Tooling,” that reporting is not required by this AD.

Parts Installation

(l) As of the effective date of this AD, no person may install, on any airplane, a p-pin, P/N 201275602, unless it has been inspected and any applicable additional inspections corrective actions have been done in accordance with this AD.

Alternative Methods of Compliance (AMOCs)

(m)(1) The Manager, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(n) French airworthiness directive F-2004-084, dated June 23, 2004, also addresses the subject of this AD.

Material Incorporated by Reference

(o) You must use Airbus All Operators Telex A330-32A3181, dated May 27, 2004; or Airbus All Operators Telex A340-32A4224, dated May 27, 2004; as applicable; to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 20, 2005.
Ali Bahrami,
Manager, Transport Airplane Directorate, Aircraft Certification Service.

[FR Doc. 05-19228 Filed 9-28-05; 8:45 am]

BILLING CODE 4910-13-P